FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012008-005.

Title: The 360 Quality Association Agreement.

Parties: Ambassador Services, Inc., NYKCool AB, Seatrade Group NV, and SSA Marine, Inc.

Filing Party: Wayne R. Rohde, Esq.; Cozen O'Connor; 1627 I Street, NW.; Suite 1100; Washington, DC 20006-4007.

Synopsis: The amendment adds authority to adopt quality standards that could be followed by trucking companies and deletes SSA Marine, Inc. as a party.

By Order of the Federal Maritime Commission.
Dated: September 9, 2011.
Karen V. Gregory,
Secretary.

[FR Doc. 2011-23570 Filed 9-13-11; 8:45 am]

BILLING CODE 6730-01-P